DEPARTMENT OF ENERGY

Environmental Management Advisory Board

AGENCY: Office of Environmental Management, Department of Energy.

ACTION: Notice of renewal.

SUMMARY: Pursuant to the Federal Advisory Committee Act, and in accordance with Title 41 of the Code of Federal Regulations, and following consultation with the Committee Management Secretariat, General Services Administration, notice is hereby given that the Environmental Management Advisory Board (EMAB) will be renewed for a two-year period beginning January 14, 2022.

FOR FURTHER INFORMATION CONTACT: Kelly Snyder, EMAB Designated Federal Officer, by Phone: (702) 918-6715 or Email: kelly.snyder@em.doe.gov.

SUPPLEMENTARY INFORMATION: The Board provides the Assistant Secretary for the Office of Environmental Management (EM) with information and strategic advice on a broad range of corporate issues affecting the EM program. These corporate issues include, but are not limited to, project management and oversight activities, cost/benefit analyses, program performance, human capital development, and contracts and acquisition strategies. Recommendations to EM on the programmatic resolution of numerous difficult issues will help achieve EM's objective of the safe and efficient cleanup of its contaminated sites.

Additionally, the renewal of the EMAB has been determined to be essential to conduct Department of Energy (DOE) business and to be in the public interest in connection with the performance of duties imposed on DOE by law and agreement. EMAB will continue to operate in accordance with the provisions of the Federal Advisory Committee Act, and rules and regulations issued in implementation of that Act.

Signing Authority

This document of the Department of Energy was signed on January 14, 2022, by Miles Fernandez, Acting Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 14, 2022.
Treena V. Garrett,
Federal Register Liaison Officer, U.S. Department of Energy.

[FR Doc. 2022-01049 Filed 1-19-22; 8:45 am]

BILLING CODE 6450-01-P